FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 018547N.

Name: Pallets in Motion.

Address: 1140 E. Sandhill Avenue, Carson, CA 90746.

Date Revoked: May 3, 2012.

Reason: Failed to maintain a valid bond.

License Number: 019439N.

Name: Shipping Express Inc.

Address: 147-35 Farmers Blvd., Suite 200, Jamaica, NY 11434.

Date Revoked: May 1, 2012.

Reason: Failed to maintain a valid bond.

License Number: 021442F.

Name: Ferm Holdings, Inc.

Address: 3640 NW 115th Avenue, Miami, FL 33178.

Date Revoked: May 1, 2012.

Reason: Failed to maintain a valid bond.

License Number: 022844N.

Name: World Freight Solutions Inc.

Address: 697 Dekle Street, Mobile, AL 36602.

Date Revoked: May 2, 2012.

Reason: Voluntarily surrendered license.

Vern W. Hill,
Director, Bureau of Certification and Licensing.

[FR Doc. 2012-14441 Filed 6-12-12; 8:45 am]

BILLING CODE 6730-01-P